DEPARTMENT OF COMMERCE

International Trade Administration

[A-201-831]

Notice of Rescission of Antidumping Duty Administrative Review: Prestressed Concrete Steel Wire Strand From Mexico

AGENCY: Import Administration, International Trade Administration, Department of Commerce.

SUMMARY: On February 24, 2005, the Department of Commerce (the Department) published in the Federal Register a notice announcing the initiation of an administrative review of the antidumping duty order on prestressed concrete steel wire strand from Mexico, covering the period July 17, 2003, to December 31, 2004. See Notice of Initiation of Antidumping and Countervailing Duty Administrative Reviews, Mexico: Prestressed Concrete Steel Wire Strand, 70 FR 9035 (February 24, 2005). The review covers Cablesa S.A. de C.V. (Cablesa). We are now rescinding this review as a result of Cablesa's timely withdrawal of its request for an administrative review .

DATES: Effective Date: April 28, 2005.

FOR FURTHER INFORMATION CONTACT: Constance Handley or Saliha Loucif, at (202) 482-0631 or (202) 482-1779, respectively, AD/CVD Enforcement, Office 1, Import Administration, International Trade Administration, U.S. Department of Commerce, 14th Street & Constitution Avenue, NW., Washington, DC 20230.

SUPPLEMENTARY INFORMATION:

Background

In accordance with 19 CFR 351.214(c), on January 31, 2005, Cablesa requested an administrative review of the antidumping duty order on prestressed concrete steel wire strand from Mexico. On February 24, 2005, in accordance with section 751(a)(2)(B)(ii) of the Tariff Act of 1930, as amended (the Act), and 19 CFR 351.214(d)(1), we initiated the administrative review of this order for the period July 17, 2003 to December 31, 2004 (70 FR 9035). Cablesa withdrew its request for a first administrative review on March 29, 2005.

Rescission of First Administrative Review

The Department's regulations at 19 CFR 351.213(d)(1) provide that the Department will rescind an administrative review if a party that requested a review withdraws the request within 90 days of the date of publication of the notice of initiation of the requested review. Cablesa, the only interested party to request a review, withdrew its request for an administrative review within the 90-day period. Therefore, the Department is required to grant the request to rescind this administrative review.

This notice also serves as the only reminder to parties subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is issued and published in accordance with sections 751(a)(2)(B)(iv) and 777(I) of the Act and 19 CFR 351.214(f)(3).

Dated: April 22, 2005.
Barbara E. Tillman,
Acting Deputy Assistant Secretary for Import Administration.

[FR Doc. E5-2046 Filed 4-27-05; 8:45 am]

BILLING CODE 3510-DS-P